DEPARTMENT OF EDUCATION

34 CFR Chapter III

[Docket ID ED-2021-OSERS-0003]

Final Priority and Requirements—Training of Interpreters for Individuals Who Are Deaf or Hard of Hearing and Individuals Who Are DeafBlind Program

AGENCY: Office of Special Education and Rehabilitative Services, Department of Education.

ACTION: Final priority and requirements.

SUMMARY: The Department of Education (Department) announces a priority and requirements for the Training of Interpreters for Individuals Who Are Deaf or Hard of Hearing and Individuals Who Are DeafBlind program, Assistance Listing Number 84.160D. The Department may use the priority and requirements for competitions in Federal fiscal year (FFY) 2021 and later years. We take this action to provide training to working interpreters in order to develop a new skill area or enhance an existing skill area. This notice relates to the approved information collection under OMB control number 1820-0018.

DATES: This priority and requirements are effective August 25, 2021.

FOR FURTHER INFORMATION CONTACT: Kristen Rhinehart-Fernandez, U.S. Department of Education, 400 Maryland Avenue SW, Room 5094, Potomac Center Plaza, Washington, DC 20202-2800. Telephone: (202) 245-6103. Email: 160D@ed.gov.

If you use a telecommunications device for the deaf (TDD) or a text telephone (TTY), call the Federal Relay Service (FRS), toll free, at 1-800-877-8339.

SUPPLEMENTARY INFORMATION:

Purpose of Program: The Training of Interpreters for Individuals Who Are Deaf or Hard of Hearing and Individuals Who Are DeafBlind program is designed to establish interpreter training programs or to provide financial assistance for ongoing interpreter programs to train a sufficient number of qualified interpreters throughout the country in order to meet the communication needs of individuals who are deaf or hard of hearing and individuals who are DeafBlind by—

(a) Training interpreters to effectively interpret and transliterate between spoken language and sign language and to transliterate between spoken language and oral or tactile modes of communication;

(b) Ensuring the maintenance of the interpreting skills of qualified interpreters; and

(c) Providing opportunities for interpreters to raise their skill level competence in order to meet the highest standards approved by certifying associations.

Program Authority: 29 U.S.C. 709(c) and 772(a) and (f).

Applicable Program Regulations: 34 CFR part 396.

We published a notice of proposed priority and requirements (NPP) for this competition in the Federal Register on March 2, 2021 (86 FR 12136). That document contained background information and our reasons for proposing the priority and requirements.

Public Comment: In response to our invitation in the NPP, 71 parties submitted comments on the proposed priority and requirements. Most of the commenters expressed support for the specialty areas in the priority, which included increasing skills of novice interpreters, trilingual interpreting (including Spanish), advanced skills for working interpreters, as well as field-initiated projects such as interpreting in healthcare (including hard-to-serve populations), interpreting for individuals who are DeafBlind, and atypical language interpreting. Commenters expressed that the specialty areas are relevant, critical, and appropriately value remote learning, field work, mentorship, and coaching experiences.

We group major issues according to subject and discuss substantive issues under the title of the priority or requirement to which they pertain. Generally, we do not address technical and other minor changes. In addition, we do not address general comments that raised concerns not related to the proposed priority or requirements.

Analysis of the Comments and Changes: An analysis of the comments and of any changes in the priority and requirements since publication of the NPP follows.

Interpreting in Specialty Areas

Comment: One commenter referenced Specialty Area (1) (increasing skills for novice interpreters) and reiterated that, according to the National Interpreter Education Center (NIEC), challenges facing interpreter training and education programs are prevalent. The commenter asserted that interpreter education programs fail to produce enough American Sign Language (ASL) fluent graduates and further stated that there needs to be an emphasis on recruiting individuals from underrepresented groups for interpreter training programs. The commenter also stated that retention of novice interpreters from underrepresented groups is vital to the success of the specialty area. The commenter noted that there are currently gaps in knowledge about the interpreting process and ethical decision-making among novice interpreters. The commenter also stated that training programs should include curriculum that is accessible for students who are deaf and hard of hearing.

Discussion: The Department agrees with the comments about the importance of training and education for, and retention of, interpreters, including interpreters from underrepresented groups. Applicants are encouraged to formulate curriculum for novice interpreters from underrepresented groups, novice interpreters who are deaf or hard of hearing, and other groups of novice interpreters.

Changes: None.

Comment: Six commenters expressed support for Specialty Area (2) (trilingual interpreting (including Spanish)) and explained that the demand for trilingual interpreters grows every year as more diverse and Spanish-speaking individuals who are deaf, hard of hearing, and DeafBlind enter higher education and the workforce. One commenter noted that expanding interpreter training to individuals from a variety of backgrounds would increase the availability of interpreters with skills in third languages. The same commenter explained that interpreters will benefit from this specialty area by expanding their skills in trilingual interpreting and the recipients of services will benefit from the diverse range of interpreter skills available to them. Furthermore, commenters explained that this specialty area will help interpreter training participants to unlearn bias, develop problem-solving skills, and be more open-minded. A final commenter recommended adding a third language requirement to interpreter training programs so that interpreters may assist individuals who do not use ASL as their primary language.

Discussion: The Department appreciates the comments. In the background section of the NPP, we explained that there may be parts of the country where multiple languages are spoken by individuals who are deaf and hard of hearing. Therefore, applicants may propose projects with multiple language combinations, which may include individuals who use signed languages other than ASL as their primary language.

Changes: None.

Comment: Four commenters expressed support for Specialty Area (3) (advanced skills for working interpreters). One commenter stated that interpreters with advanced skills and knowledge of highly specialized terminology, discourse, and emerging areas of ASL are drastically needed to assist individuals who are deaf and hard of hearing and pursuing highly specialized areas of education. Commenters stated that knowledge and awareness of the ethical implications in the field of interpreting are vital for interpreter training programs. Lastly, one commenter emphasized that heritage signers would greatly benefit from gaining advanced skills in interpreting and that heritage language interpreters should be explicitly included within the specialty area.

Discussion: We appreciate the comments and agree that it is crucial for interpreters, including heritage signers who are working as interpreters, to improve their working knowledge and skills and stay up to date on ethical considerations in interpreting. Applicants who identify a need for advanced skills for working interpreters are encouraged to apply under this specialty area.

Changes: None.

Comment: Six commenters expressed support for Specialty Area (5), topic area (a) (interpreting in healthcare including interpreting for hard-to-serve populations). Two commenters emphasized the severe lack of qualified interpreters within the healthcare profession and the barriers this creates for individuals who are deaf, hard of hearing, and DeafBlind. The commenters referred to the Americans with Disabilities Act (ADA), and stated that effective communication is vital to ensure individuals who are deaf, hard of hearing, and DeafBlind receive quality healthcare. The same commenters explained that a delay in effective communication can lead to a delay in direct patient care, including care coordination, and can ultimately produce poor patient outcomes. Two commenters expressed the increased need for interpreters who are proficient in telehealth and telemedicine settings and that training in this area should be incorporated within the specialty area.

Discussion: The Department appreciates the comments and agrees that effective communication is vital for individuals who are deaf, hard of hearing, and DeafBlind to receive quality healthcare services. Furthermore, the Department agrees that the demand for telehealth appointments has grown due to the COVID-19 pandemic and accommodations for individuals who are deaf, hard of hearing, and DeafBlind are necessary. Applicants under this specialty area may incorporate skills training for interpreting in telehealth settings to best facilitate telehealth medical appointments.

Changes: None.

Comment: Nine commenters expressed support for Specialty Area (5), topic area (b) (interpreting for individuals who are DeafBlind). Commenters highlighted the essential connection between access to skilled interpreters and autonomy for individuals who are DeafBlind.

Within Specialty Area (5), topic area (b), many commenters stated support for training in and awareness of protactile interpreting because it is critical for the success, autonomy, and opportunities for employment of individuals who are DeafBlind. Commenters asserted that the traditional means of communication for individuals who are DeafBlind, such as manual ASL and print-on-palm, lack the fullness and richness of expression found in protactile ASL. Three commenters stated that grantees focused on protactile ASL should commit to following evidence-based practices as a result of baseline data collected over the past five years and should recruit experienced DeafBlind language experts to assist in the formulation of the project. Another commenter referenced survey results from multiple training cohorts of Deafblind interpreters that recognized protactile interpreting as a language separate from ASL with its own grammatical rules. Finally, one commenter shared that the extreme lack of protactile interpreters has created a compounding negative effect for individuals who are DeafBlind, such as a lack of educational opportunities, isolation, and mental health issues.

Discussion: We appreciate the comments. We agree with the commenters who recommended that projects be based on evidence-based practices and note that the priority addresses the use of evidence-based practices. Under Application Requirements, “Significance of the Proposed Project,” paragraphs (a)(3)(i)-(ii), applicants must identify competencies that working interpreters must demonstrate in order to provide high-quality services in the identified specialty area using practices that demonstrate a rationale or are based on instruction supported by evidence, when available, and demonstrate that the identified competencies are based on practices that demonstrate a rationale or are supported by evidence. Additionally, under Application Requirements, “Quality of Project Services,” paragraph (c)(6), applicants must describe how the project will incorporate adult learning principles and practices that demonstrate a rationale or are supported by promising evidence for adult learners.

In response to the commenter's suggestion that experienced DeafBlind language experts should assist in the formulation of the project, the Department notes that the priority addresses how interpreters, interpreter educators, and others will be involved in the formulation of the project. Under Application Requirements, “Quality of Project Design” paragraph (b)(3), applicants must describe how the proposed project will provide skilled, diverse, and experienced leaders, mentors, facilitators, coaches, and subject matter experts, as appropriate for the specialty area, to participants, as needed. Lastly, the Department recognizes the need for training and awareness of pro-tactile American sign language (PTASL). As we noted in the background section of the NPP, projects under Specialty Area (5), topic area (b), may include various techniques for interpreting for individuals who are DeafBlind, including print on palm (POP), tactile sign language, tracking, tactile fingerspelling, Tadoma, PTASL, and others.

Changes: None.

Comment: Four commenters stated support for Specialty Area (5), topic area (c) (atypical language interpreting). With regard to the background information provided in the NPP on topic area (c), one commenter noted that while Specialty Area (5), topic area (c), acknowledges the senior deaf population, the specialty area should be expanded to include training for interpreters needed as the result of an injury or sudden change in verbal communication. The commenter stated that although the inclusion of the senior deaf population is positive for those who can communicate easily with an interpreter, it may be difficult for an individual who is not used to working with an interpreter. The commenter explained that having the skillset in atypical language interpreting is essential, but the ability to meet an individual at their level of understanding is also essential. Additionally, the commenter stated that individuals who demonstrate non-verbal communication would also benefit from interpreters trained in this specialty area. Another commenter asked if grantees are permitted to expand atypical language interpreting services to deaf seniors who may not be receiving VR services.

Discussion: To expand on the background information provided in the NPP, we support the inclusion of individuals who may become deaf as a result of injury, illness, or sudden change from verbal to non-verbal communication (late-deafened individuals) as those who may seek services from interpreters trained in atypical language. According to the NIEC trends report (2015), the late-deafened population is growing swiftly and includes a growing population of returning veterans with hearing loss. According to the Hearing Health Foundation, 60 percent of veterans returning from Iraq and Afghanistan have a hearing loss, and the Department of Defense identified hearing loss as the most prevalent war wound. Lastly, in response to a question posed by a commenter about expanding atypical language interpreting services to deaf seniors who may not be receiving VR services, atypical language interpreting services can be extended to all participants supported by the Rehabilitation Act of 1973 (Rehabilitation Act), even if they are not actively seeking VR services.

Changes: None.

Eligibility Requirements

Comment: Many commenters expressed a desire that we expand the specialty areas to include training for interpreters to meet the needs of students who are deaf, hard of hearing, and DeafBlind from pre-Kindergarten (pre-K) to grade 12 and increase the number of highly qualified interpreters in the classroom. Two commenters referred to Universal Design (UD) for Learning, which provides the opportunity for all students to access, participate in, and progress in general-education curriculum by reducing barriers to instruction. The same two commenters also referred to the least restrictive environment, which requires that students with disabilities receive an education to the maximum extent appropriate, with nondisabled peers, and that special education students are not removed from regular classes unless education in regular classes with the use of supplemental aids and services cannot be achieved. Commenters stated that training interpreters and increasing standards will positively affect how students receive an education and how students develop the skills they need to succeed in life. Further, commenters noted that interpreters trained in specialized areas are needed for high school students taking advanced classes such as calculus, physics, and STEM.

Discussion: We appreciate the comments describing the need for highly qualified interpreters for students from pre-K to grade 12, including interpreters trained in specialized areas needed for high school students, and the information about UD and the least restrictive environment. The Department funds grant awards to train interpreters to work with children from pre-K to grade 12 under the Individuals with Disabilities Education Act (IDEA) Personnel Preparation in Special Education, Early Intervention, and Related Services program. It would be duplicative to include training for interpreters to work with children and students from pre-K to grade 12 in this priority. The purpose of this priority is to fund projects that provide training to working interpreters in one of five specialty areas to effectively meet the communication needs of individuals who are deaf or hard of hearing and individuals who are DeafBlind receiving VR services and/or services from other programs, such as independent living services, under the Rehabilitation Act.

Changes: None.

Comment: Two commenters recommended adding a requirement that eligible applicants possess Commission on Collegiate Interpreter Education (CCIE) accreditation because CCIE is the only recognized external reviewing body to provide assurance that interpreter education programs have met standards of quality. One commenter noted that, under Application Requirements, “Quality of Project Design,” paragraph (b)(1), applicants may be required to develop a new training program or stand-alone modules that can be incorporated into existing ASL/English or ASL/other spoken language interpreter education programs. The commenter stated that if the grantee does not hold CCIE accreditation, these potentially high-impact deliverables may be of insufficient quality.

Discussion: The Department appreciates the comments. We recognize that CCIE is the only entity in the field of interpreter education that measures the standards of interpreter education programs. We also understand CCIE was founded to promote professionalism in the field of interpreter education through the process of accreditation. We are concerned about budgetary and other constraints that may limit institutions pursuing CCIE accreditation. Additionally, requiring applicants to possess CCIE accreditation would limit the pool of eligible applicants. At this time, there are 58 identified baccalaureate (BA) interpreting programs nationwide representing full interpreting BA programs or a BA with interpreting combined with another study. Of those, according to the CCIE website, 16 BA programs are CCIE accredited. By not requiring CCIE accreditation, we are broadening the applicant pool, especially for novice applicants, and ensuring diversity, equity, and inclusion among all prospective applicants.

Changes: None.

Other Areas

Comment: Two commenters recommended expanding the non-discrimination categories included under Application Requirements, paragraph (c)(1) and (e)(1), which state that applicants must demonstrate how the project will ensure equal access and treatment for eligible project participants who are members of groups who have traditionally been underrepresented based on race, color, national origin, gender, age, or disability. One commenter commended the Department for its inclusion of “gender” within the list of non-discrimination categories, which safeguards transgender individuals or those otherwise impacted by gender identity. The commenter further noted that “sexual orientation” should be included within the list of non-discrimination categories. The commenter explained that the inclusion of “sexual orientation” is important for the protection of Lesbian, Gay, Bisexual, Transgender, and Queer/Questioning (LBGTQ) individuals, as members of a group that has traditionally been underrepresented. Another commenter urged the Department to expand the list of non-discrimination categories to include gender identity or expression, racial identity, religious affiliation, sexual orientation, socioeconomic status, deaf or hard of hearing status, disability status, age, geographic locale, sign language interpreting experience, certification status and level, and language basis. The commenter asked that applications be evaluated based on a commitment to ensuring participation from the widest variety of society.

Discussion: The Department appreciates the comments regarding the groups of people that have been traditionally underrepresented described under Application Requirements, “Quality of Project Services,” paragraph (c)(1) and “Adequacy of Project Resources,” paragraph (e)(1). In these requirements, the groups of people that we have identified as historically underrepresented mirror the identified groups in the Department's general selection criteria for discretionary grant competitions in 34 CFR 75.210. We recognize that this list is not exhaustive. However, as we intend to use the selection criteria in 34 CFR 75.210 in combination with these application requirements in the competition for this program, it is important that the lists of groups align to help ensure clarity and consistency.

Changes: None.

Comment: One commenter stated that trained interpreters need to have background checks before working with individuals who are deaf, hard of hearing, and DeafBlind.

Discussion: The Department acknowledges the importance of safety for individuals with disabilities who are deaf, hard of hearing, and DeafBlind. However, background checks for program participants are not required under this priority due to the potential costs and time associated with conducting background check investigations, interest in protecting the privacy of participants, and concern about potentially limiting trainee participation. Applicants are encouraged to follow their organization's policies and procedures to determine if there is a need for participant background checks based on the type of specialized training.

Changes: None.

Comment: One commenter noted that the Application Requirements would be easier to understand if they were organized into shorter sections.

Discussion: We appreciate the comment. We did not receive any further comments or recommendations regarding the organization and clarity of the Application Requirements. We are following the typical structure we have used for priorities under this program.

Changes: None.

Cost-Share

Comment: Several commenters requested reduction or removal of the cost-share requirement. One commenter emphasized that discretionary grant projects require significant effort with support needed across multiple areas of the university to process, support, and effectively manage the project. Another commenter asserted that institutions of higher education (IHEs) have been preparing for a sharp decrease in student enrollment, budget cuts, and the elimination of academic programs due to COVID-19. Commenters explained that for eligible applicants, the expected cost-share percentage may be a barrier to prospective applicants as IHEs may not be in position to meet the cost-share requirement.

Discussion: The Department recognizes the concerns raised by the commenters and acknowledges hardships in meeting the cost-share requirement, especially due to the COVID-19 pandemic. The Department is concerned about the ability of grantees to effectively meet the cost-share requirement given uncertainties due to the COVID-19 pandemic while also ensuring the delivery of high-quality training. Interpreter training programs are generally smaller programs within IHEs, and they may not fully benefit from the financial support available during the COVID-19 pandemic. Therefore, a cost-share requirement may discourage eligible applicants, especially first-time applicants. To address these concerns, and as reflected in the notice inviting applications (NIA) for this program, published elsewhere in this issue of the Federal Register, the Department is not requiring any cost-share for the Federal Fiscal Year 2021 competition.

Changes: None.

Working Interpreters

Comment: Five commenters raised concerns about the requirement that interpreter training in specialty areas focus on working interpreters (i.e., interpreters with a baccalaureate degree in ASL-English who possess a minimum of three years of relevant experience as an interpreter) stated in the background section of the NPP. One commenter stated that, while the priority defines working interpreters as those who have graduated from four-year bachelor's degree programs in interpreting, the Registry for Interpreters of the Deaf (RID) requires a bachelor's degree but it does not have to be in interpreting. A second commenter asserted that in the NPP, the definition of “working interpreters” does not align with current industry standards. For example, the industry accepts life experience, years of professional experience, and years of education (credit hours) not totaling a formal degree and accepts continuing education units in addition to the aforementioned in order to satisfy the educational equivalency application. The commenter urged the Department to establish similar education equivalency standards. A third commenter noted that becoming a qualified interpreter is very difficult and that it is important to help interpreter students obtain the necessary qualifications needed to meet the needs of individuals who are deaf, hard of hearing, and DeafBlind. A fourth commenter remarked that this requirement appears to be inconsistent with the goals of the program. The same commenter asserted that requiring three years of experience in order to receive training defeats the purpose of all interpreters nationwide having the capabilities to develop specialized skills. A fifth commenter noted that there are many novice and experienced interpreters who would not qualify to participate in the program under the definition of “working interpreter.” The commenter also stated that associate and certificate interpreter programs continue to exist and are a critical entry point for many Black, Indigenous, and People of Color (BIPOC) interpreters, who are often first-generation college students and that requiring a bachelor's degree before participating in specialized training excludes a viable group of participants in the program. Conversely, one commenter supported requiring three years of experience and a diploma for ASL because it would raise the standards and quality of interpreters across the Nation.

Discussion: The Department agrees with the commenters who contended that the education and experience requirements were too limiting and is expanding the definition of “working interpreter” to avoid unnecessarily limiting the pool of qualified participants to those who have a baccalaureate degree in ASL-English and promote participation within projects. To address the commenter's suggestion to recognize educational equivalence for participants who may not meet the definition of working interpreter, educational equivalence may be used in place of the baccalaureate degree on a case-by-case basis and in consultation with the RSA project officer. Grantees should apply the definition of working interpreter when identifying participants for their respective projects to the extent possible.

We disagree with the commenter who asserted that requiring three years of experience to receive training defeats the purpose of all interpreters nationwide having the capabilities to develop specialized skills. The Department believes that interpreting experience is necessary for participants to be successful in the program. According to the National Interpreter Education Center (NIEC) Trends Report (2015), interpreter education programs generally do not produce graduates who demonstrate fluency in American Sign Language (ASL). As a result, recent graduates from interpreter training programs with little or no work experience are limited in the range of populations and settings in which they can begin to gain work experience. Two to four years of academic study of a language is generally insufficient to acquire fluency in any language, much less a modality-different language. Based on information gathered from the FY 2016 grant cycle, the success of interpreter training in specialty areas requires a solid foundation in ASL fluency and interpreting experience. The specialty areas are rigorous, and require self-discipline, commitment, and time management. Therefore, we have established that three years of experience for working interpreters is needed to demonstrate language proficiency in ASL and experience interpreting for individuals with a range of communication skills.

Finally, we agree with the comment that associate and certificate interpreter programs continue to exist and are a critical entry point for many BIPOC interpreters. Therefore, we have expanded the list of locations for information dissemination to include associate degree level ASL-English programs.

Changes: We have expanded the definition of “working interpreter” in the first paragraph of the final priority to reflect that interpreters who are considered for training in specialty areas outlined in this priority must possess a baccalaureate degree and a minimum of three years of relevant experience as an interpreter. On a case-by-case basis and in consultation with RSA, educational equivalence may be used in place of the baccalaureate degree. We also expanded the language under Application Requirements, “Quality of Project Design,” paragraph (b)(1), and “Quality of Project Services,” paragraph (c)(10)(ix), to include associate degree level ASL-English programs.

Program Design

Comment: One commenter asked the Department to modify the Application Requirements under “Significance of the Project,” paragraph (a)(1), which requires applicants to demonstrate that data signifies a need for interpreters in the designated specialty areas. The commenter stated that there is limited data available regarding interpreting in specialty areas. The commenter explained that the lack of data makes it difficult to demonstrate a need for interpreting in specialty areas that are mentioned in the priority, especially for field-initiated topic area (d) (other topics). The commenter asked the Department to allow applicants to demonstrate need without relying solely on data.

Discussion: The Department appreciates the comment and recognizes that baseline data for interpreter training in specialty areas is limited. We account for this under Application Requirements, “Significance of the Project,” paragraph (a)(2). The section states that, in the event that an applicant proposes training in a new specialty area that does not currently exist or for which there are no baseline data, the applicant should provide an adequate explanation of the lack of reliable data and may report zero as a baseline.

Changes: None.

Comment: Some commenters asserted that the majority of sign language interpreters are non-native users of ASL. Commenters explained that, as a result, most interpreter training programs focus on second language learners (L2) instead of native signers, heritage signers, and lifelong fluent signers. One commenter explained that, while each of these groups is different in terms of formative experience and language development trajectory, they have much more in common with each other than they do with L2 signers. The commenter specified that training programs should prioritize these groups and consider pedagogical implications. The commenter stated that signers with strong ties to the Deaf community are an untapped pool of potential interpreters that can be quickly and effectively trained. The commenter further stressed the urgent need for high-quality interpreters as more States pass licensure requirements. One commenter noted that recruitment is not enough and that interpreter training programs should develop programming that addresses the needs of this frequently overlooked population. To this end, one commenter recommended adding the recruitment and training of native signers, heritage signers, and lifelong fluent signers as an additional specialty area. Another commenter proposed a modification under Application Requirements, “Quality of Project Services,” paragraph (c). The commenter recommended the addition of a requirement that supports interpreters who come from heritage signing backgrounds, Deaf and child of a Deaf adult (CODA) backgrounds, and interpreters who have not engaged in structured interpreter training programs.

Discussion: The Department agrees that native, heritage, and lifelong fluent signers have much to contribute to the profession of interpreting. The Department also recognizes the benefit of the increased inclusion of Deaf interpreters and has supported interpreter practice and training for Deaf interpreters in prior grant cycles (see https://ncrtm.ed.gov/ for more information). In the NIEC 2015 Trends Report, 61 percent of service providers responding to the trends survey reported an increase in the demand for the services of Deaf interpreters and 81 percent reported difficulty finding qualified Deaf interpreters. Specialty area (5)(d), other topics, allows for field-initiated topics in a new topic area or in areas for which there is existing training that is not adequately meeting the needs of interpreters working in the field of VR. Under specialty area (5)(d), applicants may propose a project that addresses the inclusion, training, and recruitment of Deaf signers. We agree with the recommendation to include outreach for individuals who come from heritage signing, deaf, and CODA backgrounds in the “Quality of Project Services.”

Changes: We are revising Application Requirements, “Quality of Project Services,” paragraph (c)(3), to include individuals who come from heritage signing backgrounds, deaf, and CODA backgrounds.

Comment: One commenter noted that the Application Requirements do not mention language planning in the development or delivery of the project. The commenter recommended that a section be added under Application Requirements, “Quality of Project Services,” paragraph (c)(7) to require that educational content and related discussions/activities be developed in both English and ASL. According to the commenter who had developed a bilingual curriculum, the ability to engage with the content in both languages has improved engagement from participants and learning outcomes for all participants.

More specifically, Deaf and CODA participants in the commenter's project reported that being able to learn in their native language made learning more fun and engaging. Hearing participants reported that having the opportunity to discuss complex topics in ASL increased their language flexibility and fluency. The commenter noted that while the development of a bilingual curriculum was time consuming and costly, it led to a positive retention rate and successful outcomes.

Discussion: We agree that interpreter training in specialized areas could benefit from a bilingual curriculum to maximize engagement and outcomes for all participants, and applicants are encouraged to consider creating a bilingual curriculum. However, we have concerns about time and costs associated with this effort. Creating video content requires more and different resources than educational content that is only available in English/print material. We also want to ensure grantees are in a position to complete pilots by the end of the first year and begin training in the second year of the project. Accordingly, due to cost and timing considerations, we do not think it is appropriate to require a bilingual curriculum.

Changes: None.

Comment: Regarding Application Requirements, “Quality of Project Design,” paragraph (b), one commenter stated that the priority aims to address the shortage of working interpreters but does not give enough attention to the shortage of skilled and experienced educators and mentors from diverse backgrounds available to support interpreter training in specialty areas. The commenter requested that we require applicants to describe how they will build and support the skills of educators who are also experienced and comfortable with remote delivery. The commenter reflected on their own experience, stating that it took about three years and a large part of a project to train, build capacity, and support a small number of educators. The commenter concluded that investing in skilled and experienced educators and mentors would lead to meaningful experiences for participants and long-term impacts for interpreter education.

Discussion: We agree that it is important to provide participants with a high-quality training experience and for applicants to identify skilled and experienced leaders, mentors, facilitators, coaches, and subject matter experts, as appropriate for the specialty area, and to develop the necessary training for them to improve and enhance interpreting skills in their respective areas and deliver instruction remotely, as needed. The remote learning environment must be accessible to individuals with disabilities in accordance with Section 504 of the Rehabilitation Act of 1973 and Title II of the Americans with Disabilities Act, as applicable. We also recognize that there may be a limited pool of skilled and experienced leaders, mentors, facilitators, coaches, and subject matter experts. Applicants are strongly encouraged to consider train-the-trainer models and other relevant models to increase their capacity, as well as create opportunities for participants to advance as mentors, coaches, and facilitators in the program.

Changes: Under Application Requirements, we are revising “Quality of Project Design,” paragraph (b)(3), to address providing skilled, diverse, and experienced leaders, mentors, facilitators, coaches, and subject matter experts, as needed. Under Application Requirements, “Quality of Project Services,” paragraph (c)(5), we are adding a requirement that applicants describe how they will identify skilled, diverse, and experienced leaders, mentors, facilitators, coaches, and subject matter experts, as appropriate for the specialty area, and develop necessary training for them to improve and enhance interpreting skills in their respective areas, as well as in remote delivery, as needed. Applicants must also describe how they will grow the pool of experienced personnel and create opportunities for participants to advance as mentors, coaches, and facilitators in the program.

Induction Experience

Comment: We received a number of comments with respect to the requirements related to the induction experience described under Application Requirements, paragraph (c)(7)(iii). Commenters observed some challenges with offering a small number of high-quality induction experiences versus a large number of induction experiences that may be of lower quality. Some commenters noted that induction experiences would lead to better qualified interpreters in specialized areas while some other commenters noted that participants may not be in a position to commit to an induction experience and, as a result, potential participants may decide not to participate in the program, leading to programs serving fewer participants. Additionally, commenters shared that for field-initiated projects, the interpreter training specialty area may be brand new or in early development and, as a result, there may be limited opportunities for induction experiences. Commenters noted limited availability of educators, mentors, and supervisors necessary to support the newly developed induction experiences. One commenter encouraged induction experiences to be fully and equally accessible to deaf and hard of hearing individuals. Finally, commenters noted that classroom instruction alone is not enough, indicating that inductions offer participants a deeper learning experience and may offer opportunities for employment.

Discussion: We agree that induction experiences are critical and necessary for interpreters to raise their skill level to effectively meet the communication needs of individuals who are deaf, hard of hearing, and DeafBlind. The proposed priority included a requirement that participants receive an induction in each specialty area as part of successful completion in the program. We recognize that in-person inductions may need to occur remotely during the COVID-19 pandemic. We acknowledge limitations regarding available induction opportunities and trained personnel necessary to support them. We also acknowledge that not all potential participants are in a position to participate in an induction but would still benefit significantly from participating in the program. Finally, we agree with the comment that inductions must be fully and equally accessible to deaf, hard of hearing, and DeafBlind participants.

Changes: We are revising the Application Requirements, “Quality of Project Services,” paragraph (c)(8)(iii), to clarify that, to the extent possible, the proposed project will establish induction experiences in the specialty area for participants as part of successful completion in the training program. We are also revising this requirement to clarify that applicants must be prepared to pivot between in-person and remote inductions during the grant, as needed, throughout the duration of the COVID-19 pandemic. We also provide that the number of participants completing inductions may be based on availability of opportunities and trained personnel necessary to support them. Applicants must work to increase the availability of inductions in their respective specialty area, where possible. Finally, we are expanding the requirements under paragraph (c)(8)(iii) to indicate that the induction environment must be designed in such a way that meets the communication preferences of individuals who are deaf, hard of hearing, and DeafBlind.

Impacts of the COVID-19 Pandemic and Remote Learning

Comment: A number of commenters noted that the COVID-19 pandemic has changed or impacted interpreter education. Several commenters raised concerns about the training being offered remotely during the pandemic and described challenges regarding access, delivery, and participation, particularly for individuals located in rural areas. Another commenter noted that the COVID-19 pandemic has made the process of becoming a qualified interpreter more challenging. One commenter indicated that the transition to a virtual classroom and hiatus of onsite practicum opportunities has left an entire cohort of interpreting students behind. The commenter noted that many students took a leave of absence and will struggle to return, practicums were cancelled, and in-person quality assurance screenings were suspended. Another commenter focused on how the COVID-19 pandemic has impacted the learning environment for students nationwide and recommended that the priority address this issue. One commenter asserted that training for interpreters in the specialty areas and under Application Requirements, “Quality of Project Design,” paragraphs (b)(1), (2), and (4), should not be implemented entirely online. The commenter contended that online training is exclusive and only accessible to individuals who have access to the equipment needed to participate. Conversely, three commenters asserted that projects must continue virtually during the COVID-19 pandemic. One commenter stated that even with the challenges of COVID-19 and the changes to the learning environment, this project can be done virtually. Another commenter shared that funding could help create a program that functions well under current conditions in the COVID-19 pandemic. Finally, one commenter stated that preparing interpreters to work in a nearly exclusive virtual platform is necessary and nearly non-existent in most interpreter education program curricula.

Discussion: We agree the COVID-19 pandemic has substantially impacted all aspects of interpreter education and training from design to delivery of services. We also agree that access to high-quality training is essential for all participants in this program, regardless of location and financial status. The Department appreciates the concerns about remote learning. As stated in the background section of the NPP, remote learning may include online, hybrid/blended learning, or non-technology-based learning. Applicants may decide when to safely offer in-person training and must be prepared to pivot between in-person and remote learning during the project, as needed, throughout the duration of the pandemic. Additionally, under the Application Requirements, “Quality of Project Design,” paragraphs (b)(1), (2), and (4) offer flexible options for implementing both in-person and remote learning. Because the Department has defined “remote learning” broadly, we believe it is inclusive and accessible for the majority of participants. Further, given the restrictions on gatherings caused by the COVID-19 pandemic, remote learning is a viable option for many programs and participants. Applicants are strongly encouraged to access the Department's COVID-19 resource page at: www.ed.gov/coronavirus.

Changes: The Department has revised Application Requirements, “Quality of Project Design,” paragraph (b)(2), to convey that applicants may decide when to safely offer in-person training and must be prepared to pivot between in-person and remote learning during the project, as needed, throughout the duration of the COVID-19 pandemic. To ensure consistency with the Department's Administrative Priority and Definitions for Discretionary Grant Programs, published on December 30, 2020 (85 FR 86545), we have added to Application Requirements, “Quality of Project Design,” paragraph (b)(1), that the remote learning environment must be accessible to individuals with disabilities in accordance with Section 504 of the Rehabilitation Act of 1973 and Title II of the Americans with Disabilities Act, as applicable.

Comment: One commenter noted that the priority and requirements do not mention interpreting services provided over the technological medium of video (i.e., Over Video Interpreting) and recommended the incorporation of Over Video Interpreting in the priority and application requirements. The commenter explained that Over Video Interpreting occurs through video conferencing software/equipment and a high-speed internet connection and can be either Video Relay Service (VRS) or Video Remote Interpreting (VRI). The commenter shared that VRS, administered by the Federal Communications Commission, employs thousands of interpreters to provide service to tens of thousands of individuals who are deaf, hard of hearing, and DeafBlind to support their telecommunication needs for daily living. The commenter noted that VRI has been a growing platform for interpreting services for several years in a wide variety of settings, including medical establishments, mental health settings, police stations, schools, and the workplace. The commenter further stated that video interpreting has seen a steep increase with physical distance protocols in place during the COVID-19 pandemic. The commenter emphasized that increased use of VRI and VRS is likely to continue even after pandemic protocols are relaxed, especially in areas where there is limited access to on-site interpreters or a need for interpreters with a specialty. The commenter asserted that with rapid growth in technology and service provision across various settings, there is a need for adequate training and standardized practice for over video interpreting. Under Application Requirements, “Quality of Project Design,” paragraph (b), the commenter recommended that we require practice and training opportunities for interpreting in specialty areas that do not require physical touch to include both in-person and over video settings. The commenter shared that there is a shortage of skilled interpreters, which has a significant impact on the needs of VR consumers who are seeking and maintaining education, training, and gainful employment. The commenter further explained that the lack of specialized training available creates a gap in skill and readiness for interpreters looking for VRS employment. The commenter also recommended adding a specialty area to the priority focused on VRS interpreting and training interpreters to use virtual and hybrid settings.

Discussion: We appreciate the comment and agree that the incorporation of Over Video (i.e., VRI and VRS) services is an important aspect of interpreting. We also agree that video interpreting has seen a steep increase with physical distance protocols in place during the COVID-19 pandemic and that increased use of VRI and VRS is likely to continue even after the COVID-19 pandemic. However, we disagree with the recommendation that applicants should be required to include practice and training opportunities in Over Video settings. We believe applicants should have the option to determine what practice and training is necessary for their respective specialty area and may consider Over Video settings, as appropriate. Additionally, we acknowledge the recommendation to create a new specialty area focused on VRS interpreting. We believe this content area is more appropriate for Specialty Area (5) (field-initiated), under topic area (d) (other topics). As described in the priority, applicants under Specialty Area (5) must demonstrate the need for the training in a proposed new topic area or, in areas for which there is existing training, demonstrate that the existing training is not adequately meeting the needs of interpreters working in the field of VR.

Changes: None.

Cultural Competency Training, Outreach, and Recruitment of Interpreters From Multicultural Backgrounds

Comment: The Department received a large number of comments focused on diversity, equity, and inclusion in the field of interpreter training. Commenters identified gaps, disparities, and inequities in the recruitment, education, training, testing, assessments, employment, and advancement of interpreters from minority backgrounds. Commenters reported that in 2018, 88 percent of interpreters certified by RID identified as White and only 3.6 percent identified as African American/Black. To expand the pool of qualified interpreters from diverse backgrounds, commenters recommended a new specialty area focused on the recruitment and training of interpreters from diverse backgrounds. Commenters explained that linguistic research demonstrates that there are significant dialectical differences between Black ASL (BASL), indigenous varieties of ASL, and standard ASL, and that interpreters with novice to advanced skills need to be familiar with these variations. Another commenter noted that BASL is not the same as atypical language, although it is often misconstrued as such. Finally, commenters stated the importance of culture, values, and language within the field of interpreting and the necessity for individuals who are deaf, hard of hearing, and DeafBlind to have the option to work with interpreters who are of the same race or ethnicity as themselves and to increase representation of interpreters from traditionally underrepresented groups in the field. Commenters recommended the incorporation of a cultural competency training component within the priority. Commenters recommended that topics such as BASL, Black deaf culture, graduation rates of diverse interpreters, bias, and practices that support diversity be included in cultural competency training.

Discussion: The Department agrees that a new specialty area is needed to develop cultural competency training in the field. A new specialty area will increase the number of qualified interpreters from multicultural backgrounds so that individuals who are deaf, hard of hearing, and DeafBlind have access to a culturally competent, diverse, and qualified pool of interpreters. This recommended specialty area aligns with Executive Order 13985, “Advancing Racial Equity and Support for Underserved Communities Through the Federal Government” (86 FR 7009), issued January 20, 2021, which provides that affirmatively advancing equity, civil rights, racial justice, and equal opportunity is the responsibility of the whole of our Government. It also provides that because advancing equity requires a systematic approach to embedding fairness in decision-making processes, Federal agencies must recognize and work to redress inequities in their policies and programs that serve as barriers to equal opportunity. Further, this recommended specialty area recognizes the fact that, at present, a disproportionately high number of interpreters identify as Euro-American/White while the demographics of the deaf, hard of hearing, and DeafBlind individuals mirror that of the general population. This specialty area addresses the need for more diversity among interpreters in order to meet the social, cultural, and linguistic needs of the deaf, hard of hearing, and DeafBlind individuals they serve.

Under this specialty area, projects may contain cultural competency training for interpreters at all skill levels and could include, for example, exploration of unconscious and conscious biases, privilege, stereotypes, prejudicial attitudes, and the dynamics of oppression on interpreters from multicultural backgrounds, as well as heritage and native signers; examination of microaggressions within the interpreter training field; and gaps, disparities, and inequities in the recruitment, education, training, testing, assessments, employment, and advancement of interpreters from minority backgrounds. The specialty area may also provide training to associate, bachelor's, and advanced degree ASL-English interpreting programs to increase and support outreach and recruitment of interpreters from multicultural backgrounds. When preparing outreach and recruitment materials, selection criteria for training programs, and criteria for selecting trainers employed under the grant, applicants must cast a wide net for participants of all races and not preclude participation based on race, color, or national origin.

Changes: To adequately address the breadth and scope of comments received about diversity, equity, and inclusion in the field of interpreting, the Department is adding a specialty area under the final priority, titled Specialty Area (4) (cultural competency training, outreach, and recruitment of interpreters from multicultural backgrounds). We are also making revisions under Application Requirements, described elsewhere in the analysis of comments, to incorporate cultural competency under all specialty areas within the priority.

Comment: Many commenters described prevalent bias within the field of ASL interpreting and indicated a strong need to recognize and address implications of this bias through the priority. Commenters also explained the importance of promoting representation by exposing interpreters to trainers who are of the same race, ethnicity, and background as themselves.

Discussion: The Department agrees with the comments that it is important to expose interpreters to trainers who are of the same race, ethnicity, and background as themselves. We agree that it is of the utmost importance that all interpreter training projects funded through this priority take steps to eliminate barriers and reduce biases. Therefore, we believe it is necessary to incorporate cultural competency into each of the respective specialty areas.

Changes: Under Application Requirements, “Quality of Project Design,” paragraph (b)(1), we are adding that applicants must consider cultural competency as it relates to their respective specialty area. Applicants must describe how training and accompanying materials developed for interpreting practice and application, especially video content, will include diverse and inclusive models and perspectives.

National Certification

Comment: Two commenters highlighted the need for interpreters to be certified. One commenter strongly encouraged the Department to require the attainment of national certification as the minimum standard that all ASL interpreters should strive for. Another commenter noted that without certification it is difficult to guarantee the skillset of an interpreter.

Discussion: Part of the purpose of this program is to provide opportunities for interpreters to raise their skill level in order to meet the highest standards approved by certifying associations and to effectively meet the communication needs of individuals who are deaf, hard of hearing, and DeafBlind. In FFY 2016, the Department funded a national project to provide experiential learning to novice interpreters to successfully attain national certification and reduce the length of time between graduation and certification. More information about this project may be accessed through the Rehabilitation Services Administration's NCRTM at ncrtm.ed.gov. We also recognize that the specialty areas may not yet have certification in place or a relevant metric of success because they are new or in the early stages of development.

Changes: None.

Technical Changes

Comment: None.

Discussion: Upon further review, the Department noted that it had included the definition of “remote learning” in the background section of the NPP but omitted it in the requirements.

Changes: We have added the definition of “remote learning” to the requirements where the term first appears, under “Quality of Project Services,” paragraph (b)(1) of the Application Requirements.

Comment: None.

Discussion: The Department is interested in exploring whether an induction experience contributed to greater or more robust outcomes for working interpreters compared to those that did not complete an induction.

Changes: Under Application Requirements, “Quality of the Evaluation Plan,” paragraph (d)(3), we have added a requirement that applicants must describe an approach for measuring outcomes for participants that completed an induction compared to those who did not complete an induction prior to successfully completing the program.

Comment: None.

Discussion: Under Application Requirements, “Significance of the Proposed Project,” we identified duplication between paragraphs (a)(3)(i) and (ii) and made technical changes needed to improve clarity.

Changes: Under Application Requirements, “Significance of the Proposed Project,” we have combined paragraphs (a)(3)(i) and (ii) and made technical changes to reflect that applicants must describe the competencies working interpreters must demonstrate in order to provide high-quality services in the identified specialty area and explain how those competencies are based on practices that demonstrate a rationale or are supported by promising evidence.

Comment: None.

Discussion: We are adding an assurance statement to the application requirements to comply with 34 CFR 396.20(d), which requires an assurance that any interpreter trained or retrained under this program will meet the standards of competency for a qualified professional established by the Secretary.

Changes: Under Application Requirements, we have added paragraph (g)(3), which requires applicants to assure that any interpreter trained or retrained under this program will meet the standards of competency for a qualified professional, as defined in 34 CFR 396.4(c).

Comment: None.

Discussion: We inadvertently included the definition of “working interpreter” and listed the specialty areas in the background to the priority, rather than the text of the priority. We are moving those provisions into the priority, with the changes and clarifications discussed in this Analysis of the Comments section.

We are removing language about the project outcomes from the priority because we have modified and incorporated this data into the performance measures, which will be included in the NIA for this program. The performance measures accurately reflect the goals and purpose of this program and the priority, and therefore additional outcome measures are no longer needed.

Changes: In the text of the final priority, we have added the revised definition of “working interpreter” and listed the specialty areas, including a new specialty area focused on cultural competency, outreach, and recruitment of interpreters from multicultural backgrounds. We have removed from the priority language about the project outcomes.

Comment: None.

Discussion: Based on the current and prior grant cycles, we have seen that participants benefit from gaining a foundational understanding of the VR program. Further, this information aligns with the purpose of the priority, which is to meet the communication needs of individuals who are deaf or hard of hearing and individuals who are DeafBlind receiving vocational rehabilitation (VR) services and/or services from other programs, such as independent living services, under the Rehabilitation Act.

Changes: Under Application Requirements, “Quality of Project Design,” paragraph (b)(1), we have added that training materials may include information to ensure participants have a foundational understanding of the VR program.

Comment: None.

Discussion: Under Application Requirements, “Quality of the Evaluation Plan,” paragraph (d)(4), we determined that the requirement to gather information from participants about their knowledge of VR can be satisfied under paragraph (d)(2), which requires an approach for measuring knowledge, skills, and competencies before and after successful completion of training. We also determined that paragraph (d)(4) needed to align more closely with the priority and the performance measures that will be included in the NIA for this program.

Changes: Under Application Requirements, “Quality of the Evaluation Plan,” paragraph (d)(4), we removed the requirement to gather information from participants about their knowledge of VR. We also modified paragraph (d)(4) to require an approach for gathering information from participants about their estimated percentage of workload interpreting for individuals who are deaf or hard of hearing and individuals who are DeafBlind receiving VR services and/or services from other programs, such as independent living services, before and after specialty training.

Final Priority

Interpreter Training in Specialty Areas

The purpose of this priority is to fund projects that provide training to working interpreters in one of five specialty areas to effectively meet the communication needs of individuals who are deaf or hard of hearing and individuals who are DeafBlind receiving vocational rehabilitation (VR) services and/or services from other programs, such as independent living services, under the Rehabilitation Act. For the purposes of this priority, working interpreters must possess a baccalaureate degree and a minimum of three years of relevant experience as an interpreter. On a case-by-case basis and in consultation with RSA, educational equivalence may be used in place of the baccalaureate degree.

The specialty areas are—

(1) Increasing skills of novice interpreters;

(2) Trilingual interpreting (including Spanish) (i.e., language fluency in first, second, and third languages with one of the three languages being ASL);

(3) Advanced skills for working interpreters;

(4) Cultural competency training, outreach, and recruitment of interpreters from multicultural backgrounds; and

(5) National projects in a field-initiated area, in topic areas such as-

(a) Interpreting in healthcare, including interpreting for hard-to-serve populations;

(b) Interpreting for individuals who are DeafBlind;

(c) Atypical language interpreting; and

(d) Other topics in new areas for which applicants demonstrate that the existing training is not adequately meeting the needs of interpreters working in the field of VR.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)), or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Application Requirements

The Assistant Secretary establishes the following requirements for this priority. We may apply these requirements in any year in which this priority is in effect.

Application Requirements

The following application requirements apply to all specialty areas under this priority. The Department encourages innovative approaches to meet these requirements. Applicants must—

(a) Demonstrate, in the narrative section of the

application under “Significance of the Project,” how the proposed project will address the need for sign language interpreters in a specialty area. To address this requirement, applicants must—

(1) Present applicable data demonstrating the need for interpreters in the specialty area for which training will be developed by the project and delivered in at least three distinct, noncontiguous geographic areas, which may include the U.S. Territories;

(2) Present baseline data for the number or estimated number of working interpreters currently trained in the specialty area. In the event that an applicant proposes training in a new specialty area that does not currently exist or for which there are no baseline data, the applicant should provide an adequate explanation of the lack of reliable data and may report zero as a baseline; and

(3) Describe the competencies that working interpreters must demonstrate in order to provide high-quality services in the identified specialty area and explain how those competencies are based on practices that demonstrate a rationale or are supported by promising evidence (as defined in 34 CFR 77.1).

(b) Demonstrate, in the narrative section of the application under “Quality of Project Design,” how the proposed project will—

(1) Develop a new training program or stand-alone modules and conduct a pilot by the end of the first year of the project. Applicants must provide justification in their application if they believe additional time may be necessary to fully develop and pilot the curricula before the end of the first year. The training program or stand-alone modules must contain remote learning ¹ experiences that advance engagement and learning (e.g., synchronous and asynchronous professional learning, professional learning networks or communities, and coaching), which could also be incorporated into existing associate, baccalaureate, or graduate degree ASL-English (or ASL-other spoken language) programs, as appropriate. The remote learning environment must be accessible to individuals with disabilities in accordance with Section 504 of the Rehabilitation Act of 1973 and Title II of the Americans with Disabilities Act, as applicable. Applicants may choose to award continuing education credits (CEUs) or college or master's level credits to participants in the training program. Applicants should note that while pre-service training is not the focus of this program, a variety of resources may be considered (such as available pre-service training material) that may inform, support, or strengthen the development of training for ASL-English interpreter training in specialized areas. Training materials may include information to ensure participants have a foundational understanding of the VR program. Finally, applicants must consider cultural competency as it relates to their respective specialty area. Applicants must describe how training and accompanying materials developed for interpreting practice and application, especially video content, will include diverse and inclusive models and perspectives;

¹ Remote learning means programming where at least part of the learning occurs away from the physical building in a manner that addresses a learner's educational needs. Remote learning may include online, hybrid/blended learning, or non-technology-based learning (e.g., lab kits, project supplies, paper packets).

(2) Deliver the training or stand-alone modules remotely to at least three distinct, noncontiguous geographic areas identified in paragraph (a)(1) of these application requirements in years two, three, four, and five of the project. Applicants may deliver in-person training, as appropriate, to support participants' application of knowledge, skills, and competencies gained through online training. Applicants may decide when to safely offer in-person training and must be prepared to pivot between in-person and remote learning during the project, as needed, throughout the duration of the COVID-19 pandemic;

(3) Provide skilled, diverse, and experienced leaders, mentors, facilitators, coaches, and subject matter experts, as appropriate for the specialty area, to participants, as needed. This may include, but is not limited to, one-on-one instruction to address specific areas identified by an advisor as needing further practice, and providing written feedback from observed interpreting situations and mentoring sessions, from deaf consumers, from trained mentors, and from others, as appropriate;

(4) Develop a self-directed track and make it available to the public for independent remote learning by the end of the second year of the project. Applicants must develop a curriculum guide for each module and make available relevant materials from the training program. Applicants may offer CEUs to participants who successfully complete the self-directed track;

(5) Be based on current research and make use of practices that demonstrate a rationale or are supported by promising evidence. To meet this requirement, applicants must describe—

(i) How the proposed project will incorporate current research and practices that demonstrate a rationale or are supported by promising evidence in the development and delivery of training and in the development of products and materials;

(ii) How the proposed project will ensure interaction between project participants and individuals with disabilities who are deaf, hard of hearing, and DeafBlind and have a range of communication skills, from those with limited language skills to those with high-level, professional language skills, as appropriate.

(c) In the narrative section of the application under “Quality of Project Services,” applicants must—

(1) Demonstrate how the project will ensure equal access and treatment for eligible project participants who are members of groups who have traditionally been underrepresented based on race, color, national origin, gender, age, or disability;

(2) Describe the criteria that will be used to identify applicants for participation in the program, including any pre-assessments that may be used to determine the skill, knowledge base, and competencies of the working interpreter;

(3) Describe how the project will conduct outreach ² to working interpreters, especially working interpreters from rural areas, Indian Tribes, traditionally underrepresented groups, and individuals who come from heritage signing, deaf, and CODA backgrounds;

² When preparing outreach and recruitment materials, selection criteria for training programs, as well as criteria for selecting trainers employed under the grant, applicants must cast a wide net for participants of all races and not preclude participation based on race, color, or national origin.

(4) Describe how the project will provide feedback, resources, and next steps to applicants who may not be accepted into the program due to insufficient skills, knowledge base, and competencies;

(5) Describe how the program will identify skilled, diverse, and experienced leaders, mentors, facilitators, coaches, and subject matter experts, as appropriate for the specialty area, and develop necessary training for them to improve and enhance interpreting skills in their respective areas, as well as in remote delivery, as needed. Applicants must also describe how they will grow the pool of experienced personnel and create opportunities for participants to advance as mentors, coaches, and facilitators in the program;

(6) Describe the approach that will be used to enable more working interpreters to participate in and successfully complete the training program, specifically participants who need to work while in the program, have child care or elder care considerations, or live in geographically isolated areas;

(7) Describe how the project will incorporate adult learning principles and practices that demonstrate a rationale or are supported by promising evidence for adult learners;

(8) Demonstrate how the project is of sufficient scope, intensity, and duration to adequately prepare working interpreters in the identified specialty area of training. To address this requirement, applicants must describe how—

(i) The components of the proposed project will support working interpreters' acquisition and enhancement of the competencies identified in paragraph (a)(2)(i) of these application requirements;

(ii) The components of the project will provide working interpreters opportunities to apply their content knowledge in a variety of practical settings;

(iii) The proposed project will establish induction experiences in the specialty area for participants as a requirement for completion in the training program, to the extent possible. The induction environment must be designed in such a way that meets the communication preferences of individuals who are deaf, hard of hearing, and DeafBlind. Applicants must be prepared to pivot between in-person and remote inductions during the project, as needed, throughout the duration of the COVID-19 pandemic. The number of participants completing inductions may be based on availability of opportunities and trained personnel necessary to support them. Applicants may determine the appropriate scope and length of time for the induction and must work to increase the availability of inductions in their respective specialty area, where possible;

(9) Demonstrate how the proposed project will actively engage representation from consumers, consumer organizations, and service providers, especially State VR agencies and their partners, interpreters, interpreter educators, and individuals who are deaf, hard of hearing, and DeafBlind, in all aspects of the project; and

(10) Describe how the project will conduct dissemination, coordination, and communication activities. To meet this requirement, the applicant must describe how it will—

(i) Disseminate information to working interpreters about training available in specialized areas and to State VR agencies and their partners, American Job Centers, and other workforce partners about how to locate specialized interpreters in their State and local areas;

(ii) Establish a state-of-the-art website or modify an existing website for communicating with participants and stakeholders and ensure that all material developed by the grant and posted on the website are accessible to individuals with disabilities in accordance with section 504 of the Rehabilitation Act and title II of the Americans with Disabilities Act, as applicable. The website must provide a central location for all material related to the project, such as reports, training curricula, audiovisual materials, webinars, communities of practice, and other relevant material developed by the grantee;

(iii) Disseminate information about the project, including, but not limited to, products such as training curricula, presentations, reports, effective practices for training working interpreters in specialized areas, and other relevant information through the NCRTM;

(iv) In the final year of the budget period, ensure that all training materials have been provided to the NCRTM and the website and IT platform can be sustained, or coordinate with RSA to transition the website to the NCRTM;

(v) Establish one or more communities of practice in the specialty area of training that focuses on project activities and acts as a vehicle for communication and exchange of information among participants in the program and other relevant stakeholders;

(vi) Communicate, collaborate, and coordinate with other relevant Department-funded projects, as applicable;

(vii) Maintain ongoing communication with the RSA project officer and other RSA staff as required;

(viii) Communicate, collaborate, and coordinate, as appropriate, with key staff in State VR agencies, such as the State Coordinators for the Deaf; State and local partner programs; consumer organizations and associations, including those that represent individuals who are deaf, hard of hearing, and DeafBlind; and relevant RSA partner organizations and associations; and

(ix) Disseminate to associate, baccalaureate, or graduate degree ASL-English programs, as well as to relevant Department-funded programs and Federal partners, as applicable, the training material and products for incorporation into existing curricula, as well as products, effective practices for training working interpreters in specialized areas, challenges and solutions, results achieved, and lessons learned. To satisfy this requirement, the grantee must develop participant guides, implementation materials, toolkits, manuals, and other relevant material for interpreter educators and others, as appropriate, to incorporate or build into existing programs.

(d) In the narrative section of the application under “Quality of the Evaluation Plan,” include an evaluation plan. To meet this requirement, the evaluation plan must describe—

(1) Standards and targets for measuring the effectiveness of the program;

(2) An approach for measuring knowledge, skills, and competencies before and after successful completion of training;

(3) An approach for measuring outcomes for participants that completed an induction compared to those who did not prior to successfully completing the program;

(4) An approach for gathering information from participants about their estimated percentage of workload interpreting for individuals who are deaf or hard of hearing and individuals who are DeafBlind receiving VR services and/or services from other programs, such as independent living services, before and after specialty training;

(5) An approach for incorporating oral and written feedback from trainers and deaf consumers and any feedback from coaching or mentoring sessions conducted with the participants;

(6) Methodologies, including instruments, data collection methods, and analyses that will be used to evaluate the project and how the methods of evaluation will produce quantitative and qualitative data to demonstrate whether the project activities achieved their intended outcomes;

(7) Measures of progress in implementation, including the extent to which the project activities and products have reached their intended recipients, measures of intended outcomes or results in order to evaluate those activities, and how well the goals and objectives of the proposed project, as described in the logic model (as defined in 34 CFR 77.1), have been met;

(8) How the evaluation will be coordinated, implemented, and revised, as needed, during the project. The applicant must designate at least one individual with sufficient dedicated time, demonstrated experience in evaluation, and knowledge of the project to coordinate and conduct the evaluation. This may include, but is not limited to, making revisions post award in order to reflect any changes or clarifications, as needed, to the model and to the evaluation design and instrumentation with the logic model (e.g., designing instruments and developing quantitative or qualitative data collections that permit collecting of progress data and assessing project outcomes); and

(9) How evaluation results will be used to examine the effectiveness of the training. To address this requirement, applicants must provide an approach for determining—

(i) What practice(s) was most effective in training working interpreters in the respective specialty area and what data demonstrates the practice(s) was effective; and

(ii) What practice(s) was most effective in narrowing working interpreters' skill gaps and what data demonstrates the practice(s) was effective.

(e) Demonstrate, in the narrative section of the application under “Adequacy of Project Resources,” how—

(1) The proposed project will encourage applications for employment with the project from persons who are members of groups that have historically been underrepresented based on race, color, national origin, gender, age, or disability;

(2) Describe any proposed consultants or contractors named in the application and their areas of expertise and provide a rationale to demonstrate the need;

(3) Describe costs associated with technology, including, but not limited to, maintaining an online learning platform, state-of-the-art archiving and dissemination platform, and communication tools (i.e., Microsoft Teams, Zoom, Google, Amazon Chime, Skype, etc.), ensuring all products and services are accessible to individuals with disabilities in accordance with section 504 of the Rehabilitation Act and title II of the Americans with Disabilities Act, as applicable, including costs associated with captioning and transcription services, and cybersecurity; and

(4) The applicant and any identified partners have adequate resources to carry out the proposed activities.

(f) Demonstrate, in the narrative section of the application under “Quality of the Management Plan,” how applicants will ensure that—

(1) The project's intended outcomes, including the evaluation, will be achieved on time and within budget, through—

(i) Clearly defined responsibilities of key project personnel, consultants, and contractors, as applicable;

(ii) Procedures to track and ensure completion of the action steps, timelines, and milestones established for key project activities, requirements, and deliverables;

(iii) Internal monitoring processes to ensure that the project is being implemented in accordance with the established application and project plan; and

(iv) Internal financial management controls to ensure accurate and timely obligations, drawdowns, and reporting of grant funds, as well as monitoring contracts, in accordance with the Uniform Administrative Requirements, Cost Principles, and Audit Requirements for Federal Awards at 2 CFR part 200 and the terms and conditions of the Federal award.

(2) The allocation of key project personnel, consultants, and contractors, as applicable, including levels of effort of key personnel that are appropriate and adequate to achieve the project's intended outcomes, including an assurance that key personnel will have enough availability to ensure timely communications with stakeholders and RSA;

(3) The products and services are of high quality, relevance, and usefulness, in both content and delivery;

(4) The proposed project will benefit from a diversity of perspectives; and

(5) Projects will be awarded and must be operated in a manner consistent with nondiscrimination requirements contained in the Federal civil rights laws.

(g) Address the following application requirements. Applicants must—

(1) Include, in Appendix A, a logic model that depicts, at a minimum, the goals, activities, outputs, and short and long-term outcomes of the proposed project;

(2) Include, in Appendix A, person-loading charts and timelines, as applicable, to illustrate the management plan described in the narrative; and

(3) Provide an assurance that any interpreters trained or retrained under this program will meet the standards of competency for a qualified professional, defined in 34 CFR 396.4(c) as an individual who has: (i) Met existing certification or evaluation requirements equivalent to the highest standards approved by certifying associations; and (ii) successfully demonstrated interpreting skills that reflect the highest standards approved by certifying associations through prior work experience.

This document does not preclude us from proposing additional priorities, requirements, definitions, or selection criteria, subject to meeting applicable rulemaking requirements.

Note: This document does not solicit applications. In any year in which we choose to use this priority or these requirements we invite applications through a notice in the Federal Register.

Executive Orders 12866 and 13563

Regulatory Impact Analysis

Under Executive Order 12866, the Office of Management and Budget (OMB) must determine whether this regulatory action is “significant” and, therefore, subject to the requirements of the Executive order and subject to review by OMB. Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority and requirements only on a reasoned determination that their benefits justify their costs. In choosing among alternative regulatory approaches, we selected those approaches that maximize net benefits. Based on the analysis that follows, the Department believes that this regulatory action is consistent with the principles in Executive Order 13563.

We also have determined that this regulatory action does not unduly interfere with State, local, and Tribal governments in the exercise of their governmental functions.

In accordance with both Executive orders, the Department has assessed the potential costs and benefits, both quantitative and qualitative, of this regulatory action. The potential costs are those resulting from statutory requirements and those we have determined as necessary for administering the Department's programs and activities.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Regulatory Flexibility Act Certification: The Secretary certifies that this regulatory action does not have a significant economic impact on a substantial number of small entities. The U.S. Small Business Administration Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000.

The small entities that this final regulatory action will affect, that is, public and private nonprofit agencies and organizations including institutions of higher education, are eligible for assistance under this program. We believe that the costs imposed on an applicant by the final priority and requirements would be limited to paperwork burden related to preparing an application and that the benefits of the final priority and requirements would outweigh any costs incurred by the applicant. There are very few entities that could provide the type of technical assistance required under the final priority and requirements. For these reasons, the final priority and requirements will not impose a significant burden on a substantial number of small entities.

Paperwork Reduction Act of 1995: The priority and requirements contain information collection requirements that are approved by OMB under OMB control number 1820-0018; the priority and requirements do not affect the currently approved data collection.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at: www.federalregister.gov. Specifically, through the advanced search feature at this site, you can limit your search to documents published by the Department.

Katherine Neas,
Acting Assistant Secretary for the Office of Special Education and Rehabilitative Services.

[FR Doc. 2021-15915 Filed 7-22-21; 4:15 pm]

BILLING CODE 4000-01-P